SMALL BUSINESS ADMINISTRATION

[Declaration of Disaster #3469]

State of Alaska

As a result of the President's major disaster declaration for Public Assistance on November 8, 2002, and subsequent amendment adding Individual Assistance on November 18, 2002, I find that the Alaska Gateway Regional Educational Attendance Area (REAA) and the Copper River Regional Educational Attendance Area (REAA) in the State of Alaska constitute a disaster area due to damages caused by an earthquake occurring on November 3, 2002 and continuing through November 10, 2002. Applications for loans for physical damage as a result of this disaster may be filed until the close of business on January 17, 2003 and for economic injury until the close of business on August 18, 2003 at the address listed below or other locally announced locations: Small Business Administration, Disaster Area 4 Office, P.O. Box 13795, Sacramento, CA 95853-4795.

In addition, applications for economic injury loans from small businesses located in the following areas and jurisdictions may be filed until the specified date at the above location: Chugach REAA, Delta/Greely REAA, Yukon Flats REAA, City & Borough of Yakutat, Fairbanks North Star Borough, and Matanuska—Susitna Borough in the State of Alaska. The interest rates are:

| Percent
For Physical Damage:
Homeowners with credit available elsewhere | 5.875
Homeowners without credit available elsewhere | 2.937
Businesses with credit available elsewhere | 6.648
Businesses and non-profit organizations without credit available elsewhere | 3.324
Others (including non-profit organizations) with credit available elsewhere | 5.500
For Economic Injury:
Businesses and small agricultural cooperatives without credit available elsewhere | 3.324

The number assigned to this disaster for physical damage is 346902. For economic injury the number is 9T1100 for Alaska.

Dated: November 21, 2002.
(Catalog of Federal Domestic Assistance Program Nos. 59002 and 59008).
Herbert L. Mitchell,
Associate Administrator For Disaster Assistance.

[FR Doc. 02-30449 Filed 11-29-02; 8:45 am]

BILLING CODE 8025-01-P